DEPARTMENT OF LABOR

Mine Safety and Health Administration

Proposed Information Collection Request Submitted for Public Comment and Recommendations; Safety Standards for Underground Coal Mine Ventilation—Belt Entry Used as an Intake Air Course To Ventilate Working Sections and Areas Where Mechanized Mining Equipment Is Being Installed or Removed

ACTION: Notice.

SUMMARY: The Department of Labor, as part of its continuing effort to reduce paperwork and respondent burden conducts a pre-clearance consultation program to provide the general public and Federal agencies with an opportunity to comment on proposed and/or continuing collections of information in accordance with the Paperwork Reduction Act of 1995 (PRA95) [44 U.S.C. 3506 (c)(2)(A)]. This program helps to ensure that requested data can be provided in the desired format, reporting burden (time and financial resources) is minimized, collection instruments are clearly understood, and the impact of collection requirements on respondents can be properly assessed.

Currently, the Mine Safety and Health Administration (MSHA) is soliciting comments concerning the extension of the information collection related to 30 CFR Sections 75.350, 75.351, 75.352 and 75.371.

DATES: Submit comments on or before May 14, 2007.

ADDRESSES: Send comments to, Debbie Ferraro, Management Services Division, 1100 Wilson Boulevard, Room 2171, Arlington, VA 22209-3939. Commenters are encouraged to send their comments on computer disk, or via Internet E-mail to Ferraro.Debbie@DOL.GOV. Ms. Ferraro can be reached at (202) 693-9821 (voice), or (202) 693-9801 (facsimile).

FOR FURTHER INFORMATION CONTACT: The employee listed in the ADDRESSES section of this notice.

SUPPLEMENTARY INFORMATION:

I. Background

The Safety Standards for Underground Coal Mine Ventilation—Belt Entry rule provides safety requirements for the use of the conveyor belt entry as a ventilation intake to course fresh air to working sections and areas where mechanized mining equipment is being installed or removed in mines with three or more entries. This rule is a voluntary standard. If the mine operators choose to use belt air to ventilate working places, the provisions will maintain the level of safety in underground mines while allowing them to implement advances in mining atmospheric monitoring technology. This rule offers alternate provisions that mine operators need to follow if they want to use belt air to ventilate working sections.

II. Desired Focus of Comments

MSHA is particularly interested in comments that:

• Evaluate whether the proposed collection of information is necessary for the proper performance of the functions of the agency, including whether the information will have practical utility;

• Evaluate the accuracy of the agency's estimate of the burden of the proposed collection of information, including the validity of the methodology and assumptions used

• Enhance the quality, utility, and clarity of the information to be collected; and

• Minimize the burden of the collection of information on those who are to respond, including through the use of appropriate automated, electronic, mechanical, or other technological collection techniques or other forms of information technology, e.g., permitting electronic submissions of responses.

A copy of the proposed information collection request can be obtained by contacting the employee listed in the FOR FURTHER INFORMATION CONTACT section of this notice, or viewed on the Internet by accessing the MSHA home page (http://www.msha.gov) and then choosing “Statutory and Regulatory Information” and “Federal Register Documents.”

III. Current Actions

This request for collection of information from mine operators that elect to use belt air to ventilate working sections and areas where mechanized equipment is being installed or removed will be used by coal mine supervisors and employees, State mine inspectors, and Federal mine inspectors. The information will provide insight into the hazardous conditions that have been encountered and those that may be encountered. The records of inspections greatly assist those who use them in making decisions that will ultimately affect the safety and health of miners working in belt air mines.

Type of Review: Extension.

Agency: Mine Safety and Health Administration.

Title: Safety Standards for Underground Coal Mine Ventilation—Belt Entry Used as an Intake Air Course to Ventilate Working Sections and Areas Where Mechanized Mining Equipment Is Being Installed or Removed.

OMB Number: 1219-0138.

Frequency: On Occasion.

Affected Public: Business or other for-profit.

Respondents: 45.

Total Burden Hours: 9758.

Total Burden Cost (operating/maintaining): $87,137.

Comments submitted in response to this notice will be summarized and/or included in the request for Office of Management and Budget approval of the information collection request; they will also become a matter of public record.

Dated at Arlington, Virginia, this 9th day of March, 2007.
David L. Meyer,
Director, Office of Administration and Management.

[FR Doc. E7-4723 Filed 3-14-07; 8:45 am]

BILLING CODE 4510-43-P